NATIONAL AERONAUTICS AND SPACE ADMINISTRATION

[Notice (15-108)]

Privacy Act of 1974; System of Records—Office of Inspector General Advanced Data Analytics System

AGENCY: Office of the Inspector General, National Aeronautics and Space Administration.

ACTION: Notice of a new system of records.

SUMMARY: In accordance with the Privacy Act of 1974, as amended (Privacy Act), the National Aeronautics and Space Administration (NASA) publishes this notice of a new system of records entitled “The Office of Inspector General Advanced Data Analytics System (ADAS)” (System Number NASA 10IGDA. This system will store individually identifying information from a variety of individuals who have applied for or received grants, contracts, loans, or payments from NASA, including current and former employees of NASA, contractors, and subcontractors, and others whose actions have affected NASA.

DATES: NASA seeks comment on the new system of records described in this notice, in accordance with the requirements of the Privacy Act. We must receive your comments about the new system of records on or before December 21, 2015. NASA filed a report describing the new system of records covered by this notice with the Chair of the Senate Committee on Homeland Security and Governmental Affairs, the Chair of the House of Representatives Committee on Oversight and Government Reform, and the Administrator of the Office of Information and Regulatory Affairs, Office of Management and Budget (OMB) on November 12, 2015. This system of records will become effective at the later date of—(1) the expiration of the 40-day period for OMB review on December 22, 2015, unless OMB waives 10 days of the 40-day review period for compelling reasons shown by NASA, or (2) December 21, 2015, unless the system of records needs to be changed as a result of public comment or OMB review.

ADDRESSES: Address all comments about the new system of records to the Assistant Inspector General for Audits, NASA Office of Inspector General, 300 E Street SW., Suite 8W37, Washington, DC 20546-0001. If you prefer to send comments by electronic means, use the following email address: HQ-OIG-Counsel@mail.nasa.gov. You must include the term “ADAS” in the subject line of your electronic message.

FOR FURTHER INFORMATION CONTACT: Frank LaRocca, Counsel to the Inspector General, (202) 358-2575, HQ-OIG-Counsel@mail.nasa.gov.

SUPPLEMENTARY INFORMATION:

Introduction

The Privacy Act (5 U.S.C. 552a(e)(4)) requires NASA to publish in the Federal Register a notice of new system of records maintained by NASA. NASA's regulations implementing the Privacy Act are contained in the Code of Federal Regulations (CFR) in 14 CFR part 1212.

The Privacy Act applies to information about an individual that is maintained in a system of records from which individually identifying information is retrieved by a unique identifier associated with each individual, such as a name or social security number. The information about each individual is called a “record,” and the system, whether manual or computer-driven, is called a “system of records.” The Privacy Act requires each agency to publish a system of records notice in the Federal Register and to submit reports to the Administrator of the Office of Information and Regulatory Affairs, OMB, the Chair of the House of Representatives Committee on Oversight and Government Reform, and the Chair of the Senate Committee on Homeland Security and Governmental Affairs, whenever the agency publishes a new or altered system of records.

Background of System of Records

ADAS is a system of records that will store individually identifying information from a variety of individuals who have applied for or received grants, contracts, cooperative or other agreements, loans, or payments from NASA. These individuals include: Current and former employees of NASA; consultants; contractors; grantees; advisory committee members or others who have received funds from NASA for performing services or have otherwise transacted business with or affected NASA.

Information in this system will be obtained from the following systems of records maintained by NASA: Biographical Records for Public Affairs (System Number 10BRPA), NASA Foreign National Management System (System Number 10FNMS), Integrated Enterprise Management Program (IEMP)—Core Financial System (System Number 10IEM1), NASA Education Program Evaluation System (System Number 10EDUA), Government Motor Vehicle Operators Permit Records (System Number 10GMVP), NASA Guest Operations System (System Number 10GOS), Inspector General Investigations Case Files (System Number 10IGIC), NASA Personnel and Payroll Systems (System Number 10NPPS), Parking and Transit System (System Number 10PATS), Security Records System (System Number 10SECR), Special Personnel Records (System Number 10SPER), Exchange Records on Individuals (System Number 10XROI), Johnson Space Center Exchange Activities Records (System Number 72XOPR).

Information for the ADAS may also be obtained from systems of records maintained by other government agencies. All applicable provisions of the Privacy Act, including relevant portions of the Computer Matching Act, will be observed when obtaining and maintaining such records in the ADAS.

This new system of records notice is being established because it will involve the new use of records covered by existing NASA systems of records. This new system of records will be used to identify internal control weaknesses and to identify system issues to improve methods of data modeling and annual audit planning. This system will provide the NASA Office of Inspector General (OIG) with access to a single repository of data that currently resides in many, different NASA systems of records. The NASA OIG will conduct data modeling on this data, using statistical and mathematical techniques, in order to predict anomalies indicating suspicious or fraudulent activity.

Under the Inspector General Act of 1978, as amended, 5 U.S.C. Appendix, Inspectors General, including the NASA Inspector General, are responsible for conducting, supervising, and coordinating audits and investigations, relating to programs and operations of the Federal agency for which their office is established. This system of records facilitates OIG's performance of this statutory duty.

Electronic Access to This Document

You can view this document, as well as all other NASA documents published in the Federal Register, in text or Adobe Portable Document Format (PDF) on the Internet at the following site: https://www.federalregister.gov/agencies/national-aeronautics-and-space-administration.

Paul K. Martin,
NASA Inspector General.

For the reasons discussed in the preamble, the NASA Inspector General publishes a notice of a new system of records to read as follows:

NASA 10IGDA

SYSTEM NAME:

The Office of Inspector General Advanced Data Analytics System (ADAS).

SECURITY CLASSIFICATION:

None.

SYSTEM LOCATION:

The NASA Office of Inspector General, Advanced Data Analytics Program (ADAP), 300 E Street SW., Suite 8W37, Washington, DC 20546.

CATEGORIES OF INDIVIDUALS COVERED BY THE SYSTEM:

This system will include records on individuals that are obtained from the following other systems of records maintained by NASA:

Biographical Records for Public Affairs (System Number 10BRPA)

This system maintains information on principal and prominent management and staff officials, program and project managers, scientists, engineers, speakers, other selected employees involved in newsworthy activities, and other participants in Agency programs.

NASA Foreign National Management System (System Number 10FNMS)

This system maintains information on all non-U.S. citizens, to include Lawful Permanent Residents seeking access to NASA facilities, resources, laboratories, contractor sites, Federally Funded Research and Development Centers or NASA sponsored events for unclassified purposes to include employees of NASA or NASA contractors; prospective NASA or NASA contractor employees; employees of other U.S. Government agencies or their contractors of universities, of companies (professional or service staff), or of other institutions; foreign students at U.S. institutions; officials or other persons employed by foreign governments or other foreign institutions who may or may not be involved in cooperation with NASA under international agreements; permanent resident aliens; foreign media representatives; and representatives or agents of foreign national governments seeking access to NASA facilities, to include high-level protocol visits; or international relations.

Integrated Enterprise Management Program (IEMP)-Core Financial System (System Number 10IEM1)

Individuals covered by the NASA Core Financial (CF) System include former and current NASA employees and non-NASA individuals requiring any type of payment.

NASA Education Program Evaluation System (System Number 10EDUA)

This system maintains information on NASA civil servants and contractors serving as Education Program/Project Managers and Session Presenters, as well as on Program Participants and members of the public including students (K-12 and Higher Education), teachers, faculty, school administrators, and participants' parents/guardians/family members. Records are also maintained on the performance outcomes by Principal Investigators and their institutions and organizations that have been awarded grants under the Minority University Research and Education Program.

Government Motor Vehicle Operators Permit Records (System Number 10GMVP)

This system maintains information on NASA employees and contractor employees.

NASA Guest Operations System (System Number 10GOS)

This system maintains information on individuals who have been invited to attend NASA events. These individuals can be members of the NASA community such as principal and prominent management and staff officials, program and project managers, scientists, engineers, speakers, other selected employees involved in newsworthy activities, and other participants in Agency programs, as well members of the general public who are invited to attend NASA events.

Inspector General Investigations Case Files (System Number 10IGIC)

This system maintains information on current and former employees of NASA, contractors, and subcontractors, and others whose actions have affected NASA and who have been audited or investigated by NASA OIG pursuant to the Inspector General Act of 1978, as amended.

NASA Personnel and Payroll Systems (System Number 10NPPS)

This system maintains information on present and former NASA employees.

Parking and Transit System (System Number 10PATS)

This system maintains information on NASA civil servants and contractors who are holders of parking permits; applicants or members of carpools, vanpools and other ridesharing programs; applicants and recipients of fare subsidies issued by NASA; and applicants for other NASA transit benefit programs.

Security Records System (System Number 10SECR)

This system maintains information on Civil Servant Employees, applicants, NASA committee members, NASA consultants, NASA experts, NASA Resident Research Associates, guest workers, contractor employees, detailees, visitors, correspondents (written and telephonic), Faculty Fellows, Intergovernmental Personnel Mobility Act (IPMA) Employees, Grantees, Cooperative Employees, and Remote Users of NASA Non-Public Information Technology Resources. This system also maintains information on all non-U.S. citizens, to include Lawful Permanent Residents seeking access to NASA facilities, resources, laboratories, contractor sites, Federally Funded Research and Development Centers or NASA sponsored events for unclassified purposes to include employees of NASA or NASA contractors; prospective NASA or NASA contractor employees; employees of other U.S. Government agencies or their contractors; foreign students at U.S. institutions; officials or other persons employed by foreign governments or other foreign institutions who may or may not be involved in cooperation with NASA under international agreements; foreign media representatives; and representatives or agents of foreign national governments seeking access to NASA facilities, to include high-level protocol visits; or international relations.

Special Personnel Records (System Number 10SPER)

This system maintains information on candidates for and recipients of awards or NASA training; civilian and active duty military detailees to NASA; participants in enrollee programs; Faculty, Science, National Research Council and other Fellows, associates and guest workers including those at NASA Centers but not on NASA rolls; NASA contract and grant awardees and their associates having access to NASA premises and records; individuals with interest in NASA matters including Advisory Committee Members; NASA employees and family members, prospective employees and former employees; former and current participants in existing and future educational programs, including the Summer High School Apprenticeship Research Program (SHARP).

Exchange Records on Individuals (System Number 10XROI)

This system maintains information on present and former employees of, and applicants for employment with, NASA Exchanges, recreational associations, and employees' clubs at NASA Centers, and civil servant and contractor members of or participants in NASA Exchange programs, activities, clubs and/or recreational associations. Finally, the system maintains information on children, and their parents or guardians, who participate in Exchange-operated child care and educational development programs.

Johnson Space Center Exchange Activities Records (System Number 72XOPR)

This system maintains information on employees and past employees of Johnson Space Center (JSC) Exchange Operations, applicants under the JSC Exchange Scholarship Program, and JSC employees or JSC contractor employees participating in sports or special activities sponsored by the Exchange.

CATEGORIES OF RECORDS IN THE SYSTEM:

This system will include records that are obtained from the following other systems of records maintained by NASA:

Biographical Records for Public Affairs (System Number 10BRPA)

Current biographical information about the individuals with a recent photograph when available. Data items are those generally required by NASA or the news media in preparing news or feature stories about the individual and/or the individual's activity with NASA.

NASA Foreign National Management System (System Number 10FNMS)

Records in this system include information about the individuals seeking access to NASA resources. Information about individual may include, but is not limited to: Name, home address, place of birth and citizenship, U.S. visitor/travel document numbers, employment information, Tax Identification Numbers (Social Security Number), and reason and length of proposed NASA access.

Integrated Enterprise Management Program (IEMP)—Core Financial System (System Number 10IEM1)

Records in this system may include information about the individuals including Social Security Number (Tax Identification Number), home address, telephone number, email address, and bank account information.

NASA Education Program Evaluation System (System Number 10EDUA

Records in the system include identifying information about students enrolled in and/or graduated from NASA programs and whether students are promoted to the next grade level in math and/or science. Personal data is also maintained on Program managers, Program points of contact, and Session Presenters including information that includes, but is not limited to name, work address and telephone. Information about Program participants includes, but is not limited to, name, permanent and school addresses, ethnicity, gender, school grade or college level, highest attained degree and degree field, institution type, and ratings about program/experience.

Government Motor Vehicle Operators Permit Records (System Number 10GMVP)

Name, home address, Social Security Number, physical description of individual, physical condition of individual, traffic record.

NASA Guest Operations System (System Number 10GOS)

Records in this system may include personal information about the individuals invited or attending events, such as their names, home addresses, nationality and passport information.

Inspector General Investigations Case Files (System Number 10IGIC)

Case files pertaining to matters including, but not limited to, the following classifications of cases: (1) Fraud against the Government, (2) theft of Government property, (3) bribery, (4) lost or stolen lunar samples, (5) misuse of Government property, (6) conflict of interest, (7) waiver of claim for overpayment of pay, (8) leaks of Source Evaluation Board information; (9) improper personal conduct, (10) irregularities in awarding contracts; (11) computer crimes; (12) research misconduct; and (13) whistleblower protection under the Federal Acquisition Streamlining Act and the NASA Federal Acquisition Regulation Supplement.

NASA Personnel and Payroll Systems (System Number 10NPPS)

The data contained in this system of records includes payroll, employee leave, insurance, labor and human resource distribution and overtime information.

Parking and Transit System (System Number 10PATS)

Records in this system may include information about individuals, including name, home address, badge number, monthly commuting cost, email address, years of government service, grade, personal vehicle make and model, and person vehicle license number. These records may be captured as parking, rideshare, or other transit program applications, status or participation reports of individuals' participation in the programs.

Security Records System (System Number 10SECR)

Personnel Security Records, Personal Identity Records including NASA visitor files, Emergency Data Records, Criminal Matters, Traffic Management Records, and Access Management Records. Specific records fields include, but are not limited to: Name, former names, date of birth, place of birth, social security number, home address, phone numbers, citizenship, traffic infraction, security violation, security incident, security violation discipline status and action taken.

Special Personnel Records (System Number 10SPER)

Special Program Files including: (1) Alien Scientist files; (2) Award files; (3) Counseling files, Life and Health Insurance, Retirement, Upward Mobility, and Work Injury Counseling files; (4) Military and Civilian Detailee files; (5) Personnel Development files such as nominations for and records of training or education, Upward Mobility Program files, Intern Program files, Apprentice files, and Enrollee Program files; (6) Special Employment files such as Federal Junior Fellowship Program files, Stay-in-School Program files, Summer Employment files, Worker-Trainee Opportunity Program files, NASA Executive Position files, Expert and Consultant files, and Cooperative Education Program files; (7) Welfare to Work files; and (8) Supervisory Appraisals under Competitive Placement Plan.

Correspondence and related information including: (1) Claims correspondence and records about insurance such as life, health, and travel; (2) Congressional and other Special Interest correspondence, including employment inquiries; (3) Correspondence and records concerning travel related to permanent change of address; (4) Debt complaint correspondence; (5) Employment interview records; (6) Information related to outside employment and activities of NASA employees; (7) Placement follow-ups; (8) Pre-employment inquiries and reference checks; (9) Preliminary records related to possible adverse actions; (10) Records related to reductions in force; (11) Records under administrative as well as negotiated grievance procedures; (12) Separation information including exit interview records, death certificates and other information concerning death, retirement records, and other information pertaining to separated employees; (13) Special planning analysis and administrative information; (14) Performance appraisal records; (15) Working papers for prospective or pending retirements.

Special Records and Rosters including: (1) Locator files, (2) Ranking lists of employees; (3) Re-promotion candidate lists; (4) Retired military employee records; (5) Retiree records; (6) Follow-up records for educational programs, such as the SHARP and other existing or future programs.

Agency-wide and Center automated personnel information: Rosters, applications, recommendations, assignment information and evaluations of Faculty, Science, National Research Council and other Fellows, associates and guest workers including those at NASA Centers but not on NASA rolls; also, information about NASA contract and grant awardees and their associates having access to NASA premises and records.

Information about members of advisory committees and similar organizations: All NASA-maintained information of the same types as, but not limited to, that information required in systems of records for which the Office of Personnel Management and other Federal personnel-related agencies publish Government wide Privacy Act Notices in the Federal Register.

Exchange Records on Individuals (System Number 10XROI)

For present and former employees of NASA Exchange entities including child care and educational development center programs, records in the system relate to personnel actions and determinations during their application to and employment by the NASA Exchange. Records contain information about individuals and their employment such as name, birth date, Social Security Number, home contact information, marital status, references, veteran preference, tenure, disabilities, position description, unemployment claims; salary, leave and payroll deduction information; and job performance and personnel actions.

For civil servants, contractors, and others who apply for and participate in Exchange-sponsored programs, activities, clubs and/or recreational associations, records include employee or contractor identification number, organization, location, telephone number, and other information directly related to status or interest in participation in such activities.

For current or former participants in Exchange-operated child care and development centers, records in the system include identification and other information facilitating enrollment in the entity and proper care of the children. Records include information such as home and work addresses, email addresses, and telephone numbers; financial payment information; emergency contact names, addresses and telephone numbers; children's names and pictures as well as their health care and insurance providers; medical histories; physical, emotional, or other special care requirements; and child care and educational development center correspondence with parents/guardians such as authorizations to release the child to another person or field trip permission slips.

Johnson Space Center Exchange Activities Records (System Number 72XOPR)

For present and past employees of the JSC Exchange Operations, the system includes a variety of records relating to personnel actions and determinations made about an individual while employed by the NASA Exchange-JSC. These records contain information about an individual relating to birth date; Social Security Number; home address and telephone number; marital status; references; veteran preference, tenure, handicap; position description, past and present salaries, payroll deductions, leave; letters of commendation and reprimand; adverse actions, charges and decisions on charges; notice of reduction in force; personnel actions, including but not limited to, appointment, reassignment, demotion, detail, promotion, transfer and separation; minority group; records relating to life insurance, health and retirement benefits; designation of beneficiary; training; performance ratings; physical examinations; criminal matters; data documenting the reasons for personnel actions or decisions made about an individual; awards; and other information relating to the status of the individual.

For successful applicants under the JSC Exchange Scholarship Program, the system contains financial transactions or holdings, employment history, medical data and other related information supplied by the individual Center employees who applied for the Exchange Scholarship.

For participants in social or sports activities sponsored by the Exchange, information includes employees' or contractors' employee identification number, organization, location, telephone number, and other information directly related to status or interest in participation in such activities.

AUTHORITY FOR MAINTENANCE OF THE SYSTEM:

The Inspector General Act of 1978, as amended, 5 U.S.C. Appendix.

PURPOSE(S):

This system of records is maintained for the general purpose of enabling OIG to fulfill the requirements of section (4)(a)(1) and (3) of the Inspector General Act of 1978, as amended, which requires OIG to provide policy direction for and to conduct, supervise, and coordinate audits and investigations relating to the programs and operations of NASA and to conduct, supervise and coordinate activities for the purpose of promoting economy and efficiency in the administration of, or preventing and detecting fraud and abuse in, the programs and operations of NASA. This system is maintained for the purpose of improving the efficiency, quality, and accuracy of existing data collected by NASA. Records in this system will be used to conduct data modeling for indications of fraud, abuse and internal control weaknesses concerning NASA programs and operations. The result of that data modeling may be used in the conduct of audits, investigations, inspections or other activities as necessary to prevent and detect waste, fraud and abuse and to promote economy and efficiency in NASA programs and operations.

ROUTINE USES OF RECORDS MAINTAINED IN THE SYSTEM, INCLUDING CATEGORIES OF USERS AND THE PURPOSES FOR SUCH USES:

The NASA OIG may disclose information contained in a record in this system of records without the consent of the individual if the disclosure is compatible with the purpose for which the record was collected, under the following routine uses. The NASA OIG may make these disclosures on a case-by-case basis or, if it has met the applicable requirements of the Computer Matching and Privacy Protection Act of 1988, as amended, under a computer matching agreement.

(1) Responding to the White House, the Office of Management and Budget, and other organizations in the Executive Office of the President regarding matters inquired of; (2) disclosure to a congressional office from the record of an individual in response to a written inquiry from the congressional office made at the request of that individual; (3) providing data to Federal intelligence elements; (4) providing data to any source from which information is requested in the course of an investigation, and to identify the type of information requested; (5) providing personal identifying data to Federal, State, local, or foreign law enforcement representatives seeking confirmation of identity of persons under investigations; (6) disclosing, as necessary, to a contractor, subcontractor, or grantee firm or institution, to the extent that the disclosure is in NASA's interest and is relevant and necessary in order that the contractor, subcontractor, or grantee is able to take administrative or corrective action; (7) disclosing to any official (including members of the Council of Inspectors General on Integrity and Efficiency (CIGIE) and staff and authorized officials of the Department of Justice and Federal Bureau of Investigation) charged with the responsibility to conduct qualitative assessment reviews of internal safeguards and management procedures employed in Office of Inspector General (OIG) operations; (8) disclosing to members of the CIGIE for the preparation of reports to the President and Congress on the activities of the Inspectors General; (9) disclosing to the public when: The matter under investigation has become public knowledge, or when the Inspector General determines that such disclosure is necessary to preserve confidence in the integrity of the OIG investigative process, or to demonstrate the accountability of NASA officers, or employees, or other individuals covered by this system, unless the Inspector General determines that disclosure of the specific information in the context of a particular case would constitute an unwarranted invasion of personal privacy; (10) disclosing to the news media and public when there exists a legitimate public interest (e.g., to provide information on events in the criminal process, such as indictments), or when necessary for protection from imminent threat to life or property; (11) disclosing to any individual or entity when necessary to elicit information that will assist an OIG investigation or audit; (12) disclosing to complainants and/or victims to the extent necessary to provide such persons with information and explanations concerning the progress and/or results of the investigation or case arising from the matters of which they complained and/or of which they were a victim; (13) disclosing to contractors, grantees, experts, consultants, students, and others performing or working on a contract, service, grant, cooperative agreement, or other assignment for the Federal Government, who have a need to know such information in order to accomplish an agency function; (14) NASA standard routine uses as set forth in Appendix B.

DISCLOSURE TO CONSUMER REPORTING AGENCIES:

Not applicable to this system of records.

POLICIES AND PRACTICES FOR STORING, RETRIEVING, ACCESSING, RETAINING, AND DISCLOSING OF RECORDS IN THE SYSTEM:

STORAGE:

Records in this system are maintained as hard-copy documents and on electronic media.

RETRIEVABILITY:

Records in this system of records are retrieved by name or other identifying information of an individual or institution.

SAFEGUARDS:

Records are maintained on secure NASA servers and protected in accordance with all Federal standards and those established in NASA regulations at 14 CFR 1212.605. Additionally, server and data management environments employ infrastructure encryption technologies both in data transmission and at rest on servers. Approved security plans are in place for systems containing the records in accordance with OMB Circular A-130, Management of Federal Information Resources. Only authorized personnel requiring information in the official discharge of their duties are authorized access to records through approved access or authentication methods. Access to electronic records is achieved only from workstations within the NASA Intranet or via a secure Virtual Private Network (VPN) connection that requires two-factor hardware token authentication. Non-electronic records are secured in locked rooms or files.

RETENTION AND DISPOSAL:

Records are maintained in Agency files and destroyed in accordance with NASA Procedural Requirements (NPR) 1441.1, NASA Records Retention Schedules, Schedule 9. Files containing information of an investigative nature but not related to a specific investigation are destroyed in accordance with NPR 1441.1.

SYSTEM MANAGER AND ADDRESS:

James L. Morrison, Assistant Inspector General for Audits, NASA Office of Inspector General, 300 E Street SW., Suite 8W37, Washington, DC 20546-0001.

NOTIFICATION PROCEDURE:

Individuals interested in inquiring about their records should notify the System Manager at the address given above.

RECORD ACCESS PROCEDURE:

The NASA regulations governing access to records and the procedures for contesting the contents and appealing initial determinations are set forth in 14 CFR part 1212.

CONTESTING RECORD PROCEDURE:

The NASA regulations governing access to records and the procedures for contesting the contents and appealing initial determinations are set forth in 14 CFR part 1212.

RECORD SOURCE CATEGORIES:

This system contains records taken from the following NASA systems: Biographical Records for Public Affairs (System Number 10BRPA), NASA Foreign National Management System (System Number 10FNMS), Integrated Enterprise Management Program (IEMP)-Core Financial System (System Number 10IEM1), NASA Education Program Evaluation System (System Number 10EDUA, Government Motor Vehicle Operators Permit Records (System Number 10GMVP), NASA Guest Operations System (System Number 10GOS), Inspector General Investigations Case Files (System Number 10IGIC), NASA Personnel and Payroll Systems (System Number 10NPPS), Parking and Transit System (System Number 10PATS), Security Records System (System Number 10SECR), Special Personnel Records (System Number 10SPER), Exchange Records on Individuals (System Number 10XROI), Johnson Space Center Exchange Activities Records (System Number 72XOPR), as well as records from other agencies pursuant to an applicable computer matching agreement.

EXEMPTIONS CLAIMED FOR THE SYSTEM:

As described above, the ADAS will consist primarily of records compiled from existing systems of records maintained by NASA and other Federal agencies. The OIG will continue to apply to individual records within the ADAS any Privacy Act exemptions which apply to the system(s) from which the relevant record(s) originated. The Privacy Act Systems of Records Notices which describe in detail the exemptions claimed for each NASA system from which ADAS records will be derived can be found online at the following Web address: http://www.nasa.gov/privacy/nasa_sorn_index.html.

[FR Doc. 2015-29630 Filed 11-19-15; 8:45 am]

BILLING CODE 7510-13-P